DEPARTMENT OF COMMERCE

National Telecommunications and Information Administration

BroadbandUSA Webinar Series

AGENCY: National Telecommunications and Information Administration, U.S. Department of Commerce.

ACTION: Notice of open meetings—monthly webinars.

SUMMARY: The National Telecommunications and Information Administration (NTIA), as part of its BroadbandUSA program, will host a series of webinars on a monthly basis to engage the public and stakeholders with information to accelerate broadband connectivity, improve digital inclusion, strengthen policies and support local priorities. The Practical Broadband Conversations webinar series will provide an ongoing source of information on a range of topics and issues being addressed by BroadbandUSA, including best practices for improving broadband deployment, digital literacy and e-government.

DATES: BroadbandUSA will hold the webinars from 2:00 p.m. to 3:00 p.m. Eastern Time on the third Wednesday of every month, beginning October 18, 2017, and continuing through September 19, 2018.

ADDRESSES: This is a virtual meeting. NTIA will post the registration information on its BroadbandUSA Web site, http://www2.ntia.doc.gov/, under Events.

FOR FURTHER INFORMATION CONTACT: Elaine Sloan, National Telecommunications and Information Administration, U.S. Department of Commerce, Room 4626, 1401 Constitution Avenue NW., Washington, DC 20230; telephone: (202) 482-8231; email: esloan@ntia.doc.gov. Please direct media inquiries to NTIA's Office of Public Affairs, (202) 482-7002; email press@ntia.doc.gov.

SUPPLEMENTARY INFORMATION: NTIA's BroadbandUSA program provides expert advice and field-proven tools for assessing broadband adoption, planning new infrastructure and engaging a wide range of partners in broadband projects. BroadbandUSA convenes workshops on a regular basis to bring stakeholders together to discuss ways to improve broadband policies, share best practices, and connect communities to other federal agencies and funding sources for the purpose of expanding broadband infrastructure and adoption throughout America's communities. Experts from NTIA's BroadbandUSA program are available to provide technical assistance and to connect communities with additional resources, such as best practices, guides and program models.

NTIA's BroadbandUSA team is developing tools to support communities working to expand broadband connectivity and improve digital inclusion. These webinars are among the tools BroadbandUSA uses to provide broadband information to the public, broadband stakeholders, tribal, local and state governments and federal programs. Other tools include publications, workshops, meetings and co-hosted events with stakeholder organizations and agencies.

Details on specific webinar topics and webinar registration information will be posted on the BroadbandUSA Web site, http://www2.ntia.doc.gov/, under Events. PowerPoint slides and transcript of the webinars will be posted on the Web site within 7 days following the live webinar.

Participants are welcome to attend all webinars. General questions and comments are welcome at any time during webinars via email to BroadbandUSA@ntia.doc.gov. The webinars are open to the public and press. Pre-registration is recommended. NTIA asks each registrant to provide their first and last name, city, state, job title, organization and email address for both registration purposes and to receive any updates on BroadbandUSA or via email at BroadbandUSA@ntia.doc.gov. Information on webinar content and how to register for one or more webinars will available on NTIA's Web site at http://www2.ntia.doc.gov/WEBINARS. Individuals requiring accommodations, such as language interpretation or other ancillary aids, are asked to notify the NTIA contact listed above at least seven (7) business days before the meeting.

Dated: September 5, 2017.
Kathy D. Smith,
Chief Counsel, National Telecommunications and Information Administration.

[FR Doc. 2017-19095 Filed 9-8-17; 8:45 am]

BILLING CODE 3510-60-P